DEPARTMENT OF HEALTH AND HUMAN SERVICES

Administration for Children and Families

Submission for OMB Review; Comment Request

Title: Child Care Development Fund (CCDF)—Reporting Improper Payments—Instructions for States.

OMB No.: 0970-0323.

Description: The Improper Payments Information Act of 2002 requires Federal agencies to annually report error rate measures. Section 2 of the Improper Payments Information Act provides for estimates and reports of improper payments by Federal agencies. Subpart K of 45 CFR part 98 requires preparation and submission of a report of errors occurring in the administration of Child Care Development Fund (CCDF) grant funds once every three years. The information collected will be used to prepare the annual Agency Financial Report (AFR) and will provide information necessary to offer technical assistance to grantees.

Respondents: State grantees, the District of Columbia, and Puerto Rico.

Annual Burden Estimates
Instrument | Number of respondents | Number of responses per respondent | Average burden hours per response | Total burden hours
OMB #0970-0323 Record Review Worksheet | 17 | 276.38 | 15.43 | 72,497.24
OMB #0970-0323 Data Entry Form | 17 | 276.38 | 0.18 | 845.72
OMB #0970-0323 State Improper Authorizations for Payment Report | 17 | 1 | 639 | 10,863

Estimated Total Annual Burden Hours: 84,205.96.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.EOP.GOV, Attn: Desk Officer for the Administration for Children and Families.

Dated: April 15, 2010.
Robert Sargis,
Reports Clearance Officer.

[FR Doc. 2010-9050 Filed 4-19-10; 8:45 am]

BILLING CODE 4184-01-P